DEPARTMENT OF THE INTERIOR

National Park Service

[N6918; NPS-WASO-NAGPRA-NPS0041991; PPWOCRADN0-PCU00RP14.R50000]

Notice of Intended Repatriation: Mississippi Department of Archives and History, Jackson, MS

AGENCY: National Park Service, Interior.

ACTION: Notice.

SUMMARY: In accordance with the Native American Graves Protection and Repatriation Act (NAGPRA), the Mississippi Department of Archives and History (MDAH) intends to repatriate certain cultural items that meet the definition of unassociated funerary objects, sacred objects, and/or objects of cultural patrimony and that have a cultural affiliation with the Indian Tribes or Native Hawaiian organizations in this notice.

DATES: Repatriation of the cultural items in this notice may occur on or after March 13, 2026.

ADDRESSES: Send additional, written requests for repatriation of the cultural items in this notice to Jaquelin Padilla, NAGPRA Coordinator, Mississippi Department of Archives and History, Historic Preservation Division, 100 South State Street, P.O. Box 571, Jackson, MS 39205, email jpadilla@mdah.ms.gov.

SUPPLEMENTARY INFORMATION: This notice is published as part of the National Park Service's administrative responsibilities under NAGPRA. The determinations in this notice are the sole responsibility of the Mississippi Department of Archives and History, and additional information on the determinations in this notice, including the results of consultation, can be found in the summary or related records. The National Park Service is not responsible for the determinations in this notice.

Abstract of Information Available

A total of 112 cultural items have been requested for repatriation. The 112 unassociated funerary objects include an axe; lithics; Native American ceramics; clay; shell; faunal remains; organic materials; soil samples; effigy beads; gorget; beads; pendants; and a lithic pipe fragment.

Unassociated funerary objects were removed from several sites in Alcorn County, MS, including, 22AL00B (Mound North of Corinth), 22AL504 (Wiggington #1), 22AL505 (Wiggington #2), and 22AL536 (Massengill I). The unassociated funerary objects from this county were acquired through donations by private collectors and others were removed during archaeological surveys conducted by MDAH in the 1970s. Additionally, some objects from this county have no provenience information.

Unassociated funerary objects were removed from several sites in Benton County, MS, including, 22BE00A (Ashland City), 22BE00B, 22BE507 (Talmar), and 2BE512 (Wilkinson). The unassociated funerary objects from this county were acquired through donations by private collectors or transferred from the C.H. Nash Museum and the DeSoto Museum to MDAH between 2012-2019. Additionally, some objects from this county have no provenience information.

Unassociated funerary objects were removed from several sites in DeSoto County, MS, including, 22DS00A (Tipplah Farms), 22DS00B (MAG's Lot #23), 22DS00C (Between Shannon and Shannon #2), 22DS00E, 22DS000/2019.17000.02 (Old Culture Site on HWY 51, below airport; MAGS Lot #32), 22DS000/2019.17000.03 (Taylor Plantation/MAGS Lot #20), 22DS000/2019.17000.05 (A1990.10.01), 22DS000/2019.17000.06 (Midway), 22DS000/2019.17000.04 (East of Walls), 22DS000/2019.17000.10 (Delta Material), 22DS505 (Sullivan), 22DS515 (Withers), 22DS520 (Twinkletown), 22DS521 (Lakeside), 22DS522, 22DS523, 22DS524, 22DS525, 22DS530, 22DS531, 22DS580, 22DS592 (Cub L.) and 22DS654 (Twinkletown East). The unassociated funerary objects from this county were acquired through donations by private collectors or transferred from the DeSoto Museum to MDAH in 2019 and from the Mississippi Department of Transportation (MDOT) in 2025. Additionally, some objects from this county have no provenience information.

Unassociated funerary objects were removed from several sites in Prentiss County, MS, including, 22PS501 (St. Smith Mound), 22PS504 (Le Croy Site), 22PS505 (Sale Martin), 22PS506 (Wells Mound), 22PS507 (Doss Site), 22PS508 (Church Site), 22PS510 (Lost Site), 22PS516 (Ridge Site), and 22PS528 (King Creek Area/King's Creek). The unassociated funerary objects from this county were acquired through donations by private collectors and others were removed during archaeological surveys conducted by MDAH in the 1970s. Additionally, some objects from this county have no provenience information.

Unassociated funerary objects were removed from several sites in Quitman County, MS, including 22QU522 (Denton) and 22QU567 (Tackett). A large quantity of unassociated funerary objects from this county were acquired through donations by private collectors. Other objects were removed during various archaeological surveys conducted by MDAH, the Mississippi State University, and an unknown institution in the 1960s-1970s. Also, a transfer was received from the Mississippi Department of Transportation (MDOT) in 2025. Additionally, some objects from this county have no provenience information.

Through Tribal consultation, these 112 lots of unassociated funerary objects were identified as culturally affiliated with The Chickasaw Nation. To our knowledge, no potentially hazardous substances were used to treat any of the unassociated funerary objects.

Determinations

The Mississippi Department of Archives and History has determined that:

• The 112 lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and The Chickasaw Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 13, 2026. If competing requests for repatriation are received, the Mississippi Department of Archives and History must determine the most appropriate requestor prior to repatriation. Requests for joint repatriation of the cultural items are considered a single request and not competing requests. The Mississippi Department of Archives and History is responsible for sending a copy of this notice to the Indian Tribes and Native Hawaiian organizations identified in this notice and to any other consulting parties.

Authority: Native American Graves Protection and Repatriation Act, 25 U.S.C. 3004 and the implementing regulations, 43 CFR 10.9.

Dated: February 4, 2026.
Melanie O'Brien,
Manager, National NAGPRA Program.

[FR Doc. 2026-02695 Filed 2-10-26; 8:45 am]

BILLING CODE 4312-52-P